DEPARTMENT OF ENERGY

Federal Energy Regulatory Commission

[Docket No. EC04-72-000, et al.]

Commonwealth Energy Corporation, et al.; Electric Rate and Corporate Filings

March 16, 2004.

The following filings have been made with the Commission. The filings are listed in ascending order within each docket classification.

1. Commonwealth Energy Corporation and Commerce Energy Group, Inc.

[Docket No. EC04-72-000]

Take notice that on March 11, 2004, Commonwealth Energy Corporation (Commonwealth) and Commerce Energy Group, Inc. (Commerce Energy) filed with the Federal Energy Regulatory Commission an application pursuant to section 203 of the Federal Power Act (FPA) for Commission authorization to implement the intra-corporate reorganization described more fully in the application, and for expedited action.

Comment Date: April 1, 2004.

2. Midwest Generation, LLC, Nesbitt Asset Recovery, Series C-1, Nesbitt Asset Recovery, Series C-2, Nesbitt Asset Recovery, Series C-3, Nesbitt Asset Recovery, Series C-4

[Docket No. EC04-73-000]

Take notice that on March 12, 2004, Midwest Generation, LLC; Nesbitt Asset Recovery, Series C-1; Nesbitt Asset Recovery, Series C-2; Nesbitt Asset Recovery, Series C-3; and Nesbitt Asset Recovery, Series C-4 (collectively, the Applicants) filed with the Federal Energy Regulatory Commission an application pursuant to Section 203 of the Federal Power Act for authorization of the disposition of jurisdictional facilities in connection with the termination of a sale and leaseback transaction involving the Collins Generating Station, a 2,698-MW generating plant located in Morris, Illinois.

Comment Date: April 2, 2004.

3. MSW Energy Holdings LLC, MSW Acquisition LLC, United American Energy Holdings Corp., Highstar Renewable Fuels LLC, Highstar Renewable Fuels I LLC, Highstar Renewable Fuels II LLC

[Docket No. EC04-74-000]

Take notice that on March 12, 2004, MSW Energy Holdings LLC, MSW Acquisition LLC, United American Energy Holdings Corp., Highstar Renewable Fuels LLC, Highstar Renewable Fuels I LLC and Highstar Renewable Fuels II LLC (collectively, the Applicants) filed with the Federal Energy Regulatory Commission an application pursuant to section 203 of the Federal Power Act for authorization of a disposition of jurisdictional facilities whereby the Applicants would affect a change in control over the American Ref-Fuel Company of Essex County, American Ref-Fuel Company of Hempstead, American Ref-Fuel Company of Delaware Valley, L.P., the SEMASS Partnership ARC Project Companies and UAE Mecklenburg Cogeneration L.P.

Comment Date: April 2, 2004.

4. Union Power Partners, L.P.

[Docket No. ER01-930-004]

Take notice that on March 11, 2004, Union Power Partners, L.P. (UPP) tendered for filing its triennial market power analysis in compliance with the Commission orders granting UPP market-based rate authority.

UPP states that copies of this filing were served upon those parties on the official service list in Docket No. ER01-930.

Comment Date: April 1, 2004.

5. Panda Gila River, L.P.

[Docket No. ER01-931-004]

Take notice that on March 11, 2004, Panda Gila River, L.P. (Gila River) tendered for filing its triennial market power analysis in compliance with the Commission Orders granting Gila River market-based rate authority.

Gila River states that copies of this filing were served upon those parties on the official service list in Docket No. ER01-931.

Comment Date: April 1, 2004.

6. California Independent System Operator Corporation

[Docket No. ER03-1046-003]

Take notice that on March 11, 2004, the California Independent System Operator Corporation (ISO) submitted a filing in compliance with the Commission's Order on Proposed Tariff Amendment No. 54 issued on October 22, 2003, in Docket No. ER03-1046-003, 105 FERC ¶61,091.

The ISO states that it has served copies of this filing upon all entities that are on the official service list for the docket.

Comment Date: April 1, 2004.

7. The Dayton Power and Light Company

[Docket No. ER04-77-002]

Take notice that on March 12, 2004, The Dayton Power and Light Company (Dayton), on behalf of Cincinnati Gas and Electric Company (CG&E) and Columbus Southern Power Company (CSP) (together CCD) submitted a compliance filing pursuant to the Commiision's letter order issued February 11, 2004, in Docket Nos. ER04-77-000 and 001.

Comment Date: April 2, 2004.

8. New England Power Pool

[Docket No. ER04-110-001]

Take notice that on March 11, 2004, the New England Power Pool (NEPOOL) Participants Committee submitted a compliance filing pursuant to the Commission's order issued January 28, 2004, in New England Power Pool, 106 FERC ¶61,051 (2004).

The NEPOOL Participants Committee states that copies of these materials were sent to the NEPOOL Participants, Non-Participant Transmission Customers and the New England state governors and regulatory commissions.

Comment Date: April 1, 2004.

9. PacifiCorp

[Docket No. ER04-287-001]

Take notice that on March 11, 2004, PacifiCorp submitted for filing a refund report pursuant to Section 35.19a of the Commission's regulations, 18 CFR 35.19a (2003), and a Commission order issued on February 4, 2004, in Docket No. ER04-287-000.

Comment Date: April 1, 2004.

10. American Transmission Systems, Incorporated

[Docket No. ER04-618-001]

Take notice that on March 10, 2004, American Transmission Systems, Incorporated (ATSI) tendered for filing an amendment to their March 4, 2004, filing in Docket No. ER04-618-000.

Comment Date: March 31, 2004.

11. Public Service Company of New Mexico

[Docket No. ER04-631-000]

Take notice that on March 10, 2004, Public Service Company of New Mexico (PNM) tendered for filing a Construction and Interconnection Agreement between PNM and the City of Farmington, New Mexico (Farmington), designated as Service Agreement No. 222 under PNM Electric Tariff, Second Revised Volume No. 4, to provide for the construction and interconnection of facilities necessary to interconnect Farmington(s proposed 230 kV transmission line from an associated (Farmington owned) 230/115 kV substation to the San Juan Generating Station 230 kV transmission switchyard (jointly owned by PNM and Tucson Electric Power Company), located in northwestern New Mexico.

PNM states that copies of the filing have been sent to Farmington, the New Mexico Public Regulation Commission, and the New Mexico Attorney General.

Comment Date: March 31, 2004.

12. American Transmission Systems, Incorporated

[Docket No. ER04-633-000]

Take notice that on March 10, 2004, American Transmission Systems, Incorporated (ATSI), filed an Agreement for Construction, Operation, Modification and Compensation of Delivery Point with the City of Cleveland. ATSI requests an effective date for the agreement of March 1, 2004.

ATSI states that copies of this filing have been served on the City of Cleveland, the Midwest ISO, and the public utility commissions of Ohio and Pennsylvania.

Comment Date: March 31, 2004.

13. PPL Electric Utilities Corporation

[Docket No. ER04-634-000]

Take notice that on March 10, 2004, PPL Electric Utilities Corporation (PPL Electric) filed Interconnection Agreements between PPL Electric and the following Pennsylvania Boroughs: Borough of Blakely, Borough of Catawissa, Borough of Duncannon, Borough of Hatfield, Borough of Lansdale, Borough of Lehighton, Borough of Mifflinburg, Borough of Olyphant, Borough of Quakertown, Borough of St. Clair, Borough of Schuylkill Haven, Borough of Watsontown and Borough of Weatherly (the Boroughs).

PPL Electric has served a copy of this filing on each of the Boroughs.

Comment Date: March 31, 2004.

14. Praxair Plainfield, Inc.

[Docket No. ER04-635-000]

Take notice that on March 10, 2004, Praxair Plainfield, Inc. (Plainfield) filed an application requesting acceptance of its proposed Market-Based Rate Tariff (Tariff), waiver of certain regulations, and blanket approvals. Plainfield requested authorization to engage in wholesale sales of energy, capacity, and firm transmission rights to eligible customers at market-based rates, and to reassign transmission capacity rights at negotiated rates.

Comment Date: March 31, 2004.

15. NorthWestern Energy

[Docket No. ER04-636-000]

On March 10, 2004, NorthWestern Energy, a division of NorthWestern Corporation, filed with the Commission pursuant to sections 35.3 and 35.13 of the Commission's regulations, 18 CFR 35.3 and 35.13, an amendment to its Rate Schedule WS-1 which (1) reflects the name change from Northwestern Public Service Company to NorthWestern Energy and other designation requirements of Order No. 614, and (2) adds a termination date of 11:59 p.m. January 5, 2008.

Comment Date: March 31, 2004.

16. NYSD Limited Partnership, Warrensburg Hydro Power Limited Partnership, Sissonville Limited Partnership, Adirondack Hydro-Fourth Branch, LLC

[Docket No. ER04-637-000]

Take notice that on March 12, 2004, NYSD Limited Partnership, (NYSD) Warrensburg Hydro Power Limited Partnership, Sissonville Limited Partnership, and Adirondack Hydro-Fourth Branch, LLC, pursuant to section 35.15, 18 CFR 35.15 (2003), of the Commission's regulations, filed with the Commission a Notice of Cancellation of market-based rate authority under each applicant's FERC Electric Tariff No. 1, effective October 1, 2003.

Comment Date: April 2, 2004.

17. Entergy Services, Inc.

[Docket No. ER04-638-000]

Take notice that on March 11, 2004, Entergy Services, Inc., (collectively, Entergy) on behalf of the Entergy Operating Companies, Entergy Arkansas, Inc., Entergy Gulf States, Inc., Entergy Louisiana, Inc., Entergy Mississippi, Inc., and Entergy New Orleans, Inc. (collectively, Entergy) filed revisions to the Transmission Service Rate formulas under Entergy's Open Access Transmission Tariff.

Entergy states that it has mailed a copy of this filing to each of its transmission customers.

Comment Date: April 1, 2004.

18. Total Gas & Electricity, (PA) Inc.

[Docket No. ER04-639-000]

Take notice that on March 11, 2004, Total Gas & Electricity, Inc. (Total) tendered for filing a Notice of Cancellation of its Rate Schedule FERC No. 1 to be effective March 1, 2004.

Comment Date: April 1, 2004.

19. Total Gas & Electricity, Inc.

[Docket No. ER04-640-000]

Take notice that on March 11, 2004, Total Gas & Electricity, Inc. (Total) tendered for filing a Notice of Cancellation of its Rate Schedule FERC No. 1 to be effective March 1, 2004.

Comment Date: April 1, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the "FERRIS" link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the "e-Filing" link. The Commission strongly encourages electronic filings.

Magalie R. Salas,
Secretary.

[FR Doc. E4-653 Filed 3-22-04; 8:45 am]

BILLING CODE 6717-01-P